DEPARTMENT OF COMMERCE

National Oceanic and Atmospheric Administration

[RTID 0648-XB692]

North Pacific Fishery Management Council; Public Meeting

AGENCY: National Marine Fisheries Service (NMFS), National Oceanic and Atmospheric Administration (NOAA), Commerce.

ACTION: Notice of webconference.

SUMMARY: The North Pacific Fishery Management Council (Council) Bering Sea Fishery Ecosystem Plan Local Knowledge, Traditional Knowledge, and Subsistence Taskforce (LKTKS) will be held January 20, 2022 through January 21, 2022.

DATES: The meeting will be held on Thursday, January 20, 2022, and on Friday, January 21, 2022, from 9 a.m. to 3 p.m., Alaska Time.

ADDRESSES: The meeting will be a webconference. Join online through the link at https://meetings.npfmc.org/Meeting/Details/2735.

Council address: North Pacific Fishery Management Council, 1007 W 3rd Ave., Anchorage, AK 99501-2252; telephone: (907) 271-2809. Instructions for attending the meeting are given under SUPPLEMENTARY INFORMATION, below.

FOR FURTHER INFORMATION CONTACT: Kate Haapala Council staff; phone: (907) 271-2809 and email: kate.haapala@noaa.gov. For technical support, please contact our administrative staff; email: npfmc.admin@noaa.gov.

SUPPLEMENTARY INFORMATION:

Agenda

Thursday, January 20, 2022 and Friday, January 21, 2022

The LKTKS will discuss tools for identifying and cataloging LK, TK, and subsistence information like a search engine and futher develop the protocol. The agenda is subject to change, and the latest version will be posted at https://meetings.npfmc.org/Meeting/Details/2735 prior to the meeting, along with meeting materials.

Connection Information

You can attend the meeting online using a computer, tablet, or smart phone; or by phone only. Connection information will be posted online at: https://meetings.npfmc.org/Meeting/Details/2735. If you are attending the meeting in-person please note that all attendees will be required to wear a mask.

Public Comment

Public comment letters will be accepted and should be submitted electronically to https://meetings.npfmc.org/Meeting/Details/2735 by 5 p.m. Alaska time on Wednesday, January 19, 2022. An opportunity for oral public testimony will also be provided during the meeting.

Authority: 16 U.S.C. 1801 et seq.

Dated: December 30, 2021.
Diane M. DeJames-Daly,
Acting Deputy Director, Office of Sustainable Fisheries, National Marine Fisheries Service.

[FR Doc. 2021-28602 Filed 1-4-22; 8:45 am]

BILLING CODE 3510-22-P